DEPARTMENT OF ENERGY

Federal Energy Regulatory Commission

[Docket No. ER01-2156-001, et al.]

New England Power Company, et al.; Electric Rate and Corporate Regulation Filings

November 14, 2001.

Take notice that the following filings have been made with the Commission:

1. New England Power Company

[Docket No. ER01-2156-001]

Take notice that on November 8, 2001, New England Power Company (NEP), as successor in interest to Montaup Electric Company (Montaup) submits for filing notices of cancellation of Montaup's FERC Electric Tariff, First Revised Volume No. 1 (Montaup Tariff No. 1) and all service agreements and supplements thereunder. NEP is canceling Montaup Tariff No. 1 because service is no longer provided under the tariff. In addition, NEP submits for filing a revised tariff, redesignated as NEP tariff, to reflect the service that is currently being offered. The service agreements under Montaup Tariff No. 1 are being cancelled and redesignated to reflect that service is not provided under the revised NEP tariff.

NEP states that copies of the filing have been served upon all affected customers and state regulators in Massachusetts and Rhode Island.

Comment date: November 29, 2001, in accordance with Standard Paragraph E at the end of this notice.

2. Virginia Electric and Power Company

[Docket No. ER01-3032-001]

Take notice that on November 8, 2001, Virginia Electric and Power Company, doing business as Dominion Virginia Power, tendered for filing with the Federal Energy Regulatory Commission (Commission) an executed Generator Interconnection and Operating Agreement (Interconnection Agreement) with Tenaska Virginia Partners, L.P. (Tenaska). The Interconnection Agreement sets for the terms and conditions governing the interconnection between Tenaska's yet to be built generating facility and Dominion Virginia Power's transmission system. The executed Interconnection Agreement replaces the unexecuted Interconnection Agreement that was filed in the above referenced docket on September 10, 2001.

Dominion Virginia Power respectfully requests that the Commission accept this filing to make the executed Interconnection Agreements effective as of January 8, 2001.

Copies of the filing were served upon Tenaska Virginia Partners, L.P. and the Virginia State Corporation Commission.

Comment date: November 29, 2001, in accordance with Standard Paragraph E at the end of this notice.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-29024 Filed 11-20-01; 8:45 am]

BILLING CODE 6717-01-P